DEPARTMENT OF ENERGY

Federal Energy Regulatory Commission

Combined Notice of Filings #1

Take notice that the Commission received the following electric corporate filings:

Docket Numbers: EC24-106-000.

Applicants: Desert Quartzite, LLC.

Description: Application for Authorization Under Section 203 of the Federal Power Act of Desert Quartzite, LLC.

Filed Date: 7/25/24.

Accession Number: 20240725-5229.

Comment Date: 5 p.m. ET 8/15/24.

Take notice that the Commission received the following exempt wholesale generator filings:

Docket Numbers: EG24-233-000.

Applicants: Western Maine Renewables, LLC.

Description: Western Maine Renewables, LLC submits Notice of Self-Certification of Exempt Wholesale Generator Status.

Filed Date: 7/29/24.

Accession Number: 20240729-5053.

Comment Date: 5 p.m. ET 8/19/24.

Docket Numbers: EG24-234-000.

Applicants: RE Papago LLC.

Description: RE Papago LLC submits Notice of Self-Certification of Exempt Wholesale Generator Status.

Filed Date: 7/29/24.

Accession Number: 20240729-5118.

Comment Date: 5 p.m. ET 8/19/24.

Docket Numbers: EG24-235-000.

Applicants: BT Signal Ranch, LLC.

Description: BT Signal Ranch, LLC submits Notice of Self-Certification of Exempt Wholesale Generator Status.

Filed Date: 7/29/24.

Accession Number: 20240729-5158.

Comment Date: 5 p.m. ET 8/19/24.

Take notice that the Commission received the following electric rate filings:

Docket Numbers: ER10-1123-011; ER10-1119-009.

Applicants: Central Illinois Public Service Company, Union Electric Company.

Description: Notice of Change in Status of Union Electric Company, et al.

Filed Date: 7/25/24.

Accession Number: 20240725-5231.

Comment Date: 5 p.m. ET 8/15/24.

Docket Numbers: ER14-1964-020; ER10-1330-012; ER10-1427-012; ER10-2917-028; ER10-2922-028; ER11-2383-024; ER12-161-030; ER12-2313-010; ER16-141-009; ER16-287-014; ER16-355-007; ER17-482-014; ER19-529-018; ER19-1074-018; ER19-1075-018; ER20-1447-010; ER20-2028-005; ER22-192-010; ER22-1010-009; ER23-2363-004; ER23-2481-003; ER24-443-004; ER24-444-003.

Applicants: Deriva Energy Beckjord Storage LLC, Deriva Energy Services, LLC, Crystal Hill Solar, LLC, HXOap Solar One, LLC, Terraform IWG Acquisition Holdings II, LLC, Evolugen Trading and Marketing LP, Bitter Ridge Wind Farm, LLC, Brookfield Energy Marketing US LLC, Brookfield Renewable Energy Marketing US LLC, Brookfield Energy Marketing Inc., Brookfield Renewable Trading and Marketing LP, BREG Aggregator LLC, Colonial Eagle Solar, LLC, BIF III Holtwood LLC, Conetoe II Solar, LLC, Laurel Hill Wind Energy, LLC, Bishop Hill Energy LLC, Safe Harbor Water Power Corporation, Hawks Nest Hydro LLC, Brookfield Power Piney & Deep Creek LLC, Brookfield Energy Marketing LP, North Allegheny Wind, LLC,LSP Safe Harbor Holdings, LLC.

Description: Notice of Non-Material Change in Status of BIF II Safe Harbor Holdings, LLC et al.

Filed Date: 7/26/24.

Accession Number: 20240726-5207.

Comment Date: 5 p.m. ET 8/16/24.

Docket Numbers: ER14-2666-007; ER16-2501-009; ER16-2502-009; ER17-1671-005; ER17-1672-004; ER20-2888-007; ER21-630-004.

Applicants: 325MK 8ME LLC, Townsite Solar, LLC, Gulf Coast Solar Center III, LLC, Gulf Coast Solar Center II, LLC, Tropico, LLC, Nicolis, LLC, Avalon Solar Partners, LLC.

Description: Notice of Non-Material Change in Status of Avalon Solar Partners, LLC, et al.

Filed Date: 7/29/24.

Accession Number: 20240729-5103.

Comment Date: 5 p.m. ET 8/19/24.

Docket Numbers: ER17-1320-005; ER17-2281-004; ER17-2282-004; ER19-135-004; ER20-64-004; ER20-65-004; ER21-653-004; ER21-654-004; ER21-856-005; ER21-857-005; ER21-1396-003; ER21-1397-003; ER21-2689-003; ER21-2690-003; ER21-2764-003; ER21-2769-003; ER22-19-003; ER22-20-003; ER22-215-003; ER22-216-003; ER22-2399-002; ER22-2400-002; ER22-2401-002; ER22-2403-002; ER22-2404-002; ER22-2405-002; ER22-2406-002.

Applicants: Allora Solar, LLC, PGR 2021 Lessee 15, LLC, Gunsight Solar, LLC, PGR 2021 Lessee 12, LLC, Cabin Creek Solar, LLC, PGR 2021 Lessee 11, LLC, Phobos Solar, LLC, PGR 2021 Lessee 2, LLC, Beulah Solar, LLC, PGR 2021 Lessee 1, LLC, Stanly Solar, LLC, PGR 2021 Lessee 7, LLC, Highest Power Solar, LLC, PGR 2021 Lessee 5, LLC, Lick Creek Solar, LLC, PGR 2020 Lessee 8, LLC, Sugar Solar, LLC, Trent River Solar, LLC, PGR Lessee P, LLC, PGR Lessee O, LLC, Centerfield Cooper Solar, LLC, TWE Bowman Solar Project, LLC, PGR Lessee L, LLC, Peony Solar LLC, Champion Solar, LLC, Swamp Fox Solar, LLC, Odyssey Solar, LLC.

Description: Notice of Non-Material Change in Status of Odyssey Solar, LLC, et al.

Filed Date: 7/29/24.

Accession Number: 20240729-5141.

Comment Date: 5 p.m. ET 8/19/24.

Docket Numbers: ER17-2341-011; ER15-1218-016; ER16-38-014; ER16-39-013; ER16-2501-010; ER16-2502-010; ER17-2453-010; ER18-713-009; ER20-2888-008; ER23-2294-002.

Applicants: Vikings Energy Farm LLC, Townsite Solar, LLC, CA Flats Solar 150, LLC, Imperial Valley Solar 3, LLC, Tropico, LLC, Nicolis, LLC, Kingbird Solar B, LLC, Kingbird Solar A, LLC, Database returns error. There is a problem with archive data and system. Contact Administrator., CA Flats Solar 130, LLC.

Description: Notice of Non-Material Change in Status of CA Flats Solar 130, LLC, et al.

Filed Date: 7/29/24.

Accession Number: 20240729-5156.

Comment Date: 5 p.m. ET 8/19/24.

Docket Numbers: ER20-113-006; ER20-67-006; ER20-116-006.

Applicants: Evergy Metro, Inc., Evergy Kansas Central, Inc., Evergy Missouri West, Inc.

Description: Notice of Change in Status of Evergy Missouri West, Inc., et al.

Filed Date: 7/29/24.

Accession Number: 20240729-5146.

Comment Date: 5 p.m. ET 8/19/24.

Docket Numbers: ER22-149-008; ER23-2001-004.

Applicants: Sagebrush ESS II, LLC, Sagebrush Line, LLC.

Description: Notice of Non-Material Change in Status of Sagebrush Line, LLC et al.

Filed Date: 7/25/24.

Accession Number: 20240725-5228.

Comment Date: 5 p.m. ET 8/15/24.

Docket Numbers: ER24-762-001; ER24-764-001.

Applicants: GB Arthur Kill Storage LLC, Elevate Renewables F7, LLC.

Description: Notice of Non-Material Change in Status of Elevate Renewables F7, LLC et al.

Filed Date: 7/26/24.

Accession Number: 20240726-5210.

Comment Date: 5 p.m. ET 8/16/24.

Docket Numbers: ER24-1679-000.

Applicants: Eden Solar LLC.

Description: Supplement to 04/01/2024 Eden Solar, LLC tariff filing.

Filed Date: 7/25/24.

Accession Number: 0240725-5226.

Comment Date: 5 p.m. ET 8/5/24.

Docket Numbers: ER24-2109-001.

Applicants: Southwestern Public Service Company.

Description: Tariff Amendment: 2024-07-29 WFEC—CVEC—Hope IA—755 0.0.1 Amendment to be effective 7/27/2024.

Filed Date: 7/29/24.

Accession Number: 20240729-5164.

Comment Date: 5 p.m. ET 8/19/24.

Docket Numbers: ER24-2608-000.

Applicants: PJM Interconnection, L.L.C.

Description: § 205(d) Rate Filing: Designated Entity Agreement, SA No. 7311 between PJM and MAIT to be effective 6/28/2024.

Filed Date: 7/26/24.

Accession Number: 20240726-5156.

Comment Date: 5 p.m. ET 8/16/24.

Docket Numbers: ER24-2609-000.

Applicants: PJM Interconnection, L.L.C.

Description: § 205(d) Rate Filing: Designated Entity Agreement, SA No. 7312 between PJM and Mon Power to be effective 6/28/2024.

Filed Date: 7/26/24.

Accession Number: 20240726-5163.

Comment Date: 5 p.m. ET 8/16/24.

Docket Numbers: ER24-2610-000.

Applicants: NorthWestern Corporation.

Description: § 205(d) Rate Filing: RS333—LGIA with Colstrip Trans. Owners and Glendive Wind 2 to be effective 6/18/2024.

Filed Date: 7/26/24.

Accession Number: 20240726-5169.

Comment Date: 5 p.m. ET 8/16/24.

Docket Numbers: ER24-2611-000.

Applicants: Energy Prepay IV, LLC.

Description: Baseline eTariff Filing: Baseline new to be effective 7/27/2024.

Filed Date: 7/26/24.

Accession Number: 20240726-5199.

Comment Date: 5 p.m. ET 8/16/24.

Docket Numbers: ER24-2612-000.

Applicants: Southwest Power Pool, Inc.

Description: § 205(d) Rate Filing: 3490R1 AEP Energy Partners, Inc. NITSA and NOA to be effective 7/1/2024.

Filed Date: 7/29/24.

Accession Number: 20240729-5006.

Comment Date: 5 p.m. ET 8/19/24.

Docket Numbers: ER24-2613-000.

Applicants: Monongahela Power Company, PJM Interconnection, L.L.C.

Description: § 205(d) Rate Filing: Monongahela Power Company submits tariff filing per 35.13(a)(2)(iii: Mon Power submits Borderline Customer Agreement, Service Agreement No. 7180 to be effective 6/1/2010.

Filed Date: 7/29/24.

Accession Number: 20240729-5015.

Comment Date: 5 p.m. ET 8/19/24.

Docket Numbers: ER24-2614-000.

Applicants: PacifiCorp.

Description: § 205(d) Rate Filing: ESM Const Agt Amazon Data Proj Specialized to be effective 9/28/2024.

Filed Date: 7/29/24.

Accession Number: 20240729-5056.

Comment Date: 5 p.m. ET 8/19/24.

Docket Numbers: ER24-2615-000.

Applicants: Tri-State Generation and Transmission Association, Inc.

Description: § 205(d) Rate Filing: Amendment to Rate Schedule FERC No. 16 to be effective 9/27/2024.

Filed Date: 7/29/24.

Accession Number: 20240729-5139.

Comment Date: 5 p.m. ET 8/19/24.

Docket Numbers: ER24-2616-000.

Applicants: Tri-State Generation and Transmission Association, Inc.

Description: § 205(d) Rate Filing: Amendment to Service Agreement FERC No. 891 to be effective 7/9/2024.

Filed Date: 7/29/24.

Accession Number: 20240729-5147.

Comment Date: 5 p.m. ET 8/19/24.

Take notice that the Commission received the following public utility holding company filings:

Docket Numbers: PH24-13-000.

Applicants: Atlantica Sustainable Infrastructure plc.

Description: Atlantica Sustainable Infrastructure plc submits FERC 65-B Notice of Change in Fact to Waiver Notification of.

Filed Date: 7/26/24.

Accession Number: 20240726-5209.

Comment Date: 5 p.m. ET 8/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 29, 2024.
Debbie-Anne A. Reese,
Acting Secretary.

[FR Doc. 2024-17083 Filed 8-1-24; 8:45 am]

BILLING CODE 6717-01-P